DEPARTMENT OF JUSTICE

Drug Enforcement Administration

[Docket No. 05-16]

Lyle E. Craker, Ph.D.; Denial of Application; Change in Effective Date

By Final Order dated January 7, 2009, I denied the application of Lyle E. Craker, PhD (Respondent), to become registered as a bulk manufacturer of marijuana. The Final Order, which was published in the Federal Register on January 14, 2009 (74 FR 2101), was to become effective February 13, 2009. On January 30, 2009, Respondent submitted to me a document entitled “Request for Opportunity Under 5 U.S.C. 556(e) to Respond to New Officially Noticed Evidence and Motion for Reconsideration.” As that request and motion remain pending before me, the effective date of the Final Order is hereby changed from February 13, 2009 to April 1, 2009.

Dated: February 9, 2009.
Michele M. Leonhart,
Deputy Administrator.

[FR Doc. E9-3151 Filed 2-12-09; 8:45 am]

BILLING CODE 4410-09-P